NATIONAL CAPITAL PLANNING COMMISSION

Notice of Public Comment Period and Public Meeting on Updates to the Submission Guidelines Related to Tree Replacement on Federal Development Sites

AGENCY: National Capital Planning Commission.

ACTION: Notice of 60-Day public comment period and public meeting.

SUMMARY: The National Capital Planning Commission (NCPC) has released revisions to the Submission Guidelines to update aspects of the submission requirements related to tree replacement on federal development sites. Federal and non-Federal agency applicants whose development proposals and plans are subject to statutory mandated Commission plan and project review must submit their proposals to the Commission following a process laid out in the Submission Guidelines. The proposed revisions to the Submission Guidelines support the draft Federal Environment Element of the Comprehensive Plan for the National Capital, Section G: Federal Elements which NCPC also released for public comment. NCPC will host a public information session to learn more about the revisions to the Submission Guidelines, as well as the draft policies related to tree replacement in Section G of the Federal Environment Element of the Comprehensive Plan for the National Capital.

DATES: The public comment period closes September 14, 2020.

The meeting will be held virtually on Wednesday, July 29 at 4:30 p.m. to 5:30 p.m.

ADDRESSES: The revisions to the Submission Guidelines are available online for review at: https://www.ncpc.gov/initiatives/treereplacement/.

Registration information for the meeting will be available online at https://www.ncpc.gov/initiatives/treereplacement/.

Written public comments on the draft submitted electronically are preferred but may be submitted by either method:

1. U.S. mail, courier, or hand deliver: Tree Replacement, Submission Guidelines, Public Comment, National Capital Planning Commission, 401 9th Street NW, Suite 500N, Washington, DC 20004.

2. Electronically: https://www.ncpc.gov/initiatives/treereplacement/.

FOR FURTHER INFORMATION CONTACT: Stephanie Free at (202) 482-7209 or info@ncpc.gov.

Authority: 40 U.S.C. 8721(e)(2).

Dated: July 9, 2020.
Debra Dickson,
Director, Office of Administration.

[FR Doc. 2020-15326 Filed 7-15-20; 8:45 am]

BILLING CODE P